DEPARTMENT OF ENERGY

Federal Energy Regulatory Commission

[Docket Nos. CP05-91-000 and CP05-380-000]

Calhoun LNG, L.P. and Point Comfort Pipeline Company, L.P.; Notice of Intent To Prepare an Environmental Impact Statement for the Proposed Calhoun LNG Terminal and Pipeline Project, Request for Comments on Environmental Issues, and Notice of Public Scoping Meetings and Site Visit

July 7, 2005.

The staff of the Federal Energy Regulatory Commission (FERC or Commission) will prepare an environmental impact statement (EIS) that will discuss the environmental impacts of the Calhoun LNG Terminal and Pipeline Project involving construction and operation of facilities by Calhoun LNG, L.P. and Point Comfort Pipeline Company, L.P. (collectively referred to as Calhoun Point Comfort) in Calhoun and Jackson Counties, Texas.¹ These facilities would consist of a liquefied natural gas (LNG) import terminal and storage facilities, and 27 miles of 36-inch-diameter pipeline. This EIS will be used by the Commission in its decision-making process to determine whether the project is in the public convenience and necessity. Please note that the scoping period will close on August 8, 2005.

¹ On March 8, 2005, Calhoun LNG, L.P. filed its application with the Commission under Section 3(a) of the Natural Gas Act (NGA) and part 153 of the Commission's regulations. On June 10, 2005 Point Comfort Pipeline Company, L.P. filed its application under Section 7 of the NGA and Parts 157 and 284 of the Commission's regulations.

Comments may be submitted in written form or presented verbally at the public meetings detailed below. Further details on how to submit written comments are provided in the public participation section of this notice. In lieu of sending written comments, you are invited to attend the public scoping meeting scheduled as follows:

July 26, 2005, 7 p.m. (cst), Bauer Community Center, 2300 N. Highway 35, Port Lavaca, Texas 77979. Telephone: (361) 552-1234.

The public scoping meeting is designed to provide state and local agencies, interested groups, affected landowners, and the general public with more detailed information and another opportunity to offer your comments on the proposed project. Interested groups and individuals are encouraged to attend the meeting and to present comments on the environmental issues they believe should be addressed in the EIS. A transcript of the meeting will be made so that your comments will be accurately recorded.

Also on July 26 2005, starting at 8 a.m., we will be conducting a visit to the proposed LNG terminal site and pipeline route. Anyone interested in participating in the site visit should meet at the Days Inn Port Lavaca at 2100 N. Hwy, Port Lavaca, Texas 77979 (phone number: 361-552-4511). Participants must provide their own transportation. For additional information, please contact the Commission's Office of External Affairs at 1-866-208-FERC (3372).

This notice is being sent to affected landowners; federal, state, and local government representatives and agencies; environmental and public interest groups; Native American tribes; local libraries and newspapers; and intervenors in this proceeding. We ² request that state and local government representatives notify their constituents of this proposed action and encourage them to comment on their areas of concern.

² “We,” “us,” and “our” refer to the environmental staff of the FERC's Office of Energy Projects (OEP).

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Proposed Project

Calhoun Point Comfort proposes to import, store, and vaporize on average about 1.0 billion cubic feet per day of LNG at its terminal facility on the southeastern shoreline of Lavaca Bay, south of Point Comfort, Texas. The proposed terminal site is bounded by Lavaca Bay to the west and south, Cox Bay to the east, and industrial facilities to the north owned by Alcoa and Formosa Plastics Corporation. The proposed pipeline, extending from the LNG terminal to its terminus southwest of Edna, Texas, would be capable of transporting about 1.0 billion cubic feet per day of imported natural gas to markets throughout the United States, via interconnections with existing intrastate and interstate pipeline systems and industrial users. Calhoun Point Comfort seeks authority to construct and operate:

• A single berthing structure along Lavaca Bay and unloading facilities equipped to unload up to 120 LNG ships per year;

• Two single containment LNG storage tanks, each with a nominal working volume of approximately 160,000 cubic meters (1,006,400 barrels equivalent);

• LNG vaporization and sendout system and ancillary equipment and buildings;

• Natural gas recovery system;

• 27 miles of 36-inch-diameter natural gas pipeline, 0.5 mile of 8- and 16-inch-diameter lateral pipeline, and appurtenances; and

• Up to 10 interconnects with existing intrastate and interstate pipelines and industrial users.

Construction of the proposed LNG terminal would also require construction of nonjurisdictional facilities, consisting of about 1.7 miles of natural gas liquids pipeline and about 0.7 mile of new overhead electric power line. These facilities are not under jurisdiction of the Commission but they will be addressed in the EIS as related nonjurisdictional facilities.

Calhoun Point Comfort would like to have the project constructed and operational prior to the 2009 winter heating season. The general location of the facilities is shown in appendix 1.³

³ The appendices referenced in this notice are not being printed in the Federal Register. Copies of all appendices, other than appendix 1 (maps), are available on the Commission's Web site at the “eLibrary” link or from the Commission's Public Reference, Room 2A or call (202) 502-8371. For instructions on connecting to eLibrary refer to the last page of this notice. Copies of the appendices were sent to all those receiving this notice in the mail. Requests for detailed maps of the proposed facilities should be made directly to Calhoun Point Comfort.

Land Requirements for Construction

The proposed LNG terminal would be located on about 89 acres of land owned by the Port of Port Lavaca—Point Comfort. Onshore, permanent operation of the terminal would require the use of about 89 acres while offshore, permanent operation of the marine berthing area would require the use of about 9 acres of open water. The Calhoun County Navigation District (CCND) would augment the harbor by dredging a new turning basin at the confluence of the Point Comfort Channel and the channel to the Alcoa plant. This augmentation would encompass construction of Calhoun Point Comfort's new berthing area as well as the CCND's turning basin and would require the dredging of about 4,700,000 cubic yards of material. The material dredged during harbor augmentation would be placed within the Alcoa/Lavaca Bay Superfund Site in Lavaca Bay.

Construction of the proposed pipeline would affect a total of about 383 acres of land, including 3 acres for aboveground facilities. A 100-foot-wide nominal construction right-of-way would be used, plus additional temporary extra work spaces, and the permanent pipeline easement would be 30 feet wide. Operation would require use of about 103 acres. At the end of construction, the remaining 280 acres of land along the pipeline route would be restored to its previous condition and use. Construction of the proposed laterals would affect a total of about 5 acres of land, including 0.6 acre for aboveground facilities, while operation would require about 2 acres.

The EIS Process

The National Environmental Policy Act (NEPA) requires the Commission to take into account the environmental impacts that could result from an action whenever it considers the issuance of a Certificate of Public Convenience and Necessity. NEPA also requires the Commission to discover and address concerns the public may have about proposals. This process is referred to as “scoping.” The main goal of the scoping process is to focus the analysis in the EIS on the important environmental issues and reasonable alternatives. With this notice, we are soliciting input from the public and interested agencies to help us focus the analysis in the EIS on the potentially significant environmental issues related to the proposed action. To ensure that your scoping comments are considered, please carefully follow the instructions in the public participation section beginning on page 5.

We are also asking federal, state, local, and tribal agencies with jurisdiction and/or special expertise with respect to the environmental issues to formally cooperate with us in the preparation of the EIS. These agencies, especially the U.S. Army Corps of Engineers, U.S. Coast Guard, U.S. Fish and Wildlife Service, and the National Marine Fisheries Service, may choose to participate once they have evaluated the proposal relative to their responsibilities.

Our independent analysis of the proposed project will be included in a draft EIS. The draft EIS will be published and mailed to federal, state, and local agencies, public interest groups, interested individuals, affected landowners, Native American tribes, newspapers, libraries, and the Commission's official service list for this proceeding. A 45-day comment period will be allotted for review of the draft EIS. We will consider all timely comments on the draft EIS and revise the document, as necessary, before issuing the final EIS. In addition, we will consider all comments on the final EIS when we make our recommendations to the Commission.

Currently Identified Environmental Issues

The EIS will discuss impacts that could occur as a result of the construction and operation of the proposed project under the general resource headings listed below. We have already identified several issues that we think deserve attention based on a preliminary review of the proposed facilities and the environmental information provided by Calhoun Point Comfort. This preliminary list of issues may be changed based on your comments and our analysis. Our preliminary list includes the following:

• Augmentation of the harbor, including dredging of the new berthing area, and placement of dredged material within the Alcoa/Lavaca Bay Superfund Site in Lavaca Bay

• Surface waterbodies, including the Navidad and Lavaca Rivers

• About 26 acres of wetlands

• State and/or federally-listed threatened and endangered species and essential fish habitat

• Consistency with coastal zone management area guidelines

• LNG ship traffic on the Port of Port Lavaca

• Archaeological sites at the LNG terminal and along the pipeline

• Air and noise quality

• Reliability and safety, including assessment of the transport, unloading, storage, and vaporization of LNG and security associated with LNG ship traffic and an LNG import terminal

• Alternative sites for the LNG terminal and pipeline route

• Cumulative impacts of the proposed project when combined with other past, present, or reasonably foreseeable future actions in the project area

Public Participation

You can make a difference by providing us with your specific comments or concerns about the project. By becoming a commentor, your concerns will be addressed in the EIS and considered by the Commission. You should focus on the potential environmental effects of the proposal, alternatives to the proposal (including alternative terminal locations or pipeline routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket Nos. CP05-91-000 and CP05-380-000

• Mail your comments so that they will be received in Washington, DC on or before August 8, 2005.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account, which can be created by clicking on “Login to File” and then “New User Account.” You will be asked to select the type of filing you are making. This filing is considered a “Comment on Filing.”

Becoming an Intervenor

In addition to involvement in the EIS scoping process, you may want to become an official party to the proceeding known as an “intervenor.” Intervenors play a more formal role in the process. Among other things, intervenors have the right to receive copies of case-related Commission documents and filings by other intervenors. Likewise, each intervenor must send one electronic copy (using the Commission's eFiling system) or provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC (3372) or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. To register for this service, go to http://www.ferc.gov/esubscribenow.htm.

Finally, public meetings or site visits will be posted on the Commission's calendar located at http://www.ferc.gov /EventCalendar/EventsList.aspx along with other related information.

Magalie R. Salas,
Secretary.

[FR Doc. 05-15383 Filed 8-2-05; 8:45 am]

BILLING CODE 6717-01-U